DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 11, 2010.

Interested persons are invited to submit written comments regarding the subject matter of the investigations to the Director, Division of Trade Adjustment Assistance, at the address shown below, not later than February 11, 2010.

The petitions filed in this case are available for inspection at the Division of Trade Adjustment Assistance, Employment and Training Administration, U.S. Department of Labor, Room N-5428, 200 Constitution Avenue, NW., Washington, DC 20210.

Signed at Washington, DC, this 22nd day of January 2009.
Elliott Kushner,
Certifying Officer, Division of Trade Adjustment Assistance.

APPENDIX
[TAA petitions instituted between 12/28/09 and 12/31/09]
TA-W | Subject firm (petitioners) | Location | Date of institution | Date of petition
73147 | Shaw Fabricator (State) | Addis, LA | 12/28/09 | 12/22/09
73148 | Regal Ware, Inc. (Comp) | Kewaskum, WI | 12/28/09 | 12/22/09
73149 | Ashland Hercules Water Technology (State) | Kearny, NJ | 12/28/09 | 12/18/09
73150 | Manchester Grand Hyatt (State) | San Diego, CA | 12/28/09 | 12/17/09
73151 | Trimble Navigation Ltd. (Comp) | Corvallis, OR | 12/28/09 | 12/16/09
73152 | Dell, Inc. (Wkrs) | Round Rock, TX | 12/28/09 | 12/18/09
73153 | Kimberly-Clark Global Sales, Inc. (Wkrs) | Neenah, WI | 12/28/09 | 12/18/09
73154 | Transcom Enhanced Services, Inc. (State) | Fort Worth, TX | 12/28/09 | 12/21/09
73155 | Air Cruisers Company (Comp) | Liberty, MS | 12/28/09 | 12/21/09
73156 | American Spring Wire Corporation (Wkrs) | Kankakee, IL | 12/28/09 | 12/17/09
73157 | FCI USA, LLC (Comp) | Mount Union, PA | 12/28/09 | 12/22/09
73158 | Siemens Medical Solutions, Inc. (Comp) | Concord, CA | 12/28/09 | 12/22/09
73159 | Roscommon Manufacturing Company (Comp) | Roscommon, MI | 12/28/09 | 12/18/09
73160 | Fisher Controls International, LLC (Comp) | Portsmouth, NH | 12/28/09 | 12/21/09
73161 | Carmeuse Industrial Sands (Wkrs) | Brady, TX | 12/28/09 | 12/18/09
73162 | Imation Corporation (State) | Oakdale, MN | 12/29/09 | 12/21/09
73163 | Siemns Medical Solution (Wkrs) | Malvern, PA | 12/29/09 | 12/15/09
73164 | General Motors Corporation (Wkrs) | Detroit, MI | 12/29/09 | 12/18/09
73165 | James Hamilton Construction Company (Wkrs) | Silver City, NM | 12/29/09 | 12/23/09
73166 | Gormac Products, Inc. (Comp) | Racine, WI | 12/29/09 | 12/28/09
73167 | Veeco Instruments, Inc. (State) | Camarillo, CA | 12/29/09 | 12/24/09
73168 | Riverside Mechanical, Inc. (Comp) | Groveport, OH | 12/29/09 | 12/12/09
73169 | MIC Group, Inc. (Wkrs) | Brenham, TX | 12/29/09 | 11/28/09
73170 | Idearc Media Corporation (Wkrs) | Troy, NY | 12/29/09 | 12/14/09
73171 | Hallmark Jewelry (Comp) | Warwick, RI | 12/29/09 | 12/10/09
73172 | Rusnak (Pasadena) (State) | Pasadena, CA | 12/29/09 | 12/18/09
73173 | Muller Martini Mailroom Systems, Inc. (Comp) | Allentown, PA | 12/29/09 | 12/15/09
73174 | EMD Chemicals (Wkrs) | Gibbstown, NJ | 12/29/09 | 12/21/09
73175 | Caraco Pharmaceutical labs, LTD (Wkrs) | Detroit, MI | 12/29/09 | 12/18/09
73176 | Valeo Electrical Systems, Inc. (Wkrs) | Troy, MI | 12/29/09 | 12/08/09
73177 | Century Aluminum of Kentucky, GP (Union) | Hawesville, KY | 12/29/09 | 12/15/09
73178 | Alcatel-Lucent (Wkrs) | Murray Hill, NJ | 12/29/09 | 12/10/09
73179 | Axiom XCell, Inc. (Wkrs) | San Diego, CA | 12/29/09 | 12/11/09
73180 | Protingent Staffing (State) | Redmond, WA | 12/29/09 | 12/04/09
73181 | Advanced Technology Services, Inc. (Wkrs) | Peoria, IL | 12/30/09 | 12/18/09
73182 | Thomas Petroleum (Wkrs) | Nomsa, TX | 12/30/09 | 12/16/09
73183 | Halliburton Energy Services, Inc. (Comp) | Carrollton, TX | 12/30/09 | 12/16/09
73184 | Transguard Industries (Wkrs) | Angola, IN | 12/30/09 | 12/22/09
73185 | Belcan Corporation (Comp) | Cincinnati, OH | 12/30/09 | 12/28/09
73186 | The North Carolina Moulding Company (Wkrs) | Lexington, NC | 12/30/09 | 12/28/09
73187 | Cascade Wood Products (Wkrs) | White City, OR | 12/30/09 | 12/18/09
73188 | Hagemeyer North America (Wkrs) | Charleston, SC | 12/30/09 | 12/11/09
73189 | Lear Corporation (Wkrs) | El Paso, TX | 12/30/09 | 12/18/09
73190 | Stanley Assembly Technologies (Comp) | Cleveland, OH | 12/30/09 | 12/09/09
73191 | HSBC Bank USA NA (Wkrs) | Brooklyn, NY | 12/31/09 | 12/22/09
73192 | Hewlett Packard (HP) (State) | Rancho Cordova, CA | 12/31/09 | 12/30/09
73193 | Bassett Fiberboard (Comp) | Bassett, VA | 12/31/09 | 12/29/09
73194 | Jim Beam Brands Company (Comp) | Cincinnati, OH | 12/31/09 | 12/29/09
73195 | PIAD Precision Casting Corporation (Wkrs) | Greensburg, PA | 12/31/09 | 12/29/09
73196 | GMAC Insurance (Wkrs) | Maryland Heights, MO | 12/31/09 | 12/29/09
73197 | Rexam Consumer Plastics, Inc. (Wkrs) | Holden, MA | 12/31/09 | 12/29/09
73198 | Thomson Reuters (State) | Eagan, MN | 12/31/09 | 12/30/09
73199 | Dow Jones and Company (Wkrs) | West Middlesex, PA | 12/31/09 | 12/30/09

[FR Doc. 2010-1885 Filed 1-29-10; 8:45 am]

BILLING CODE 4510-FN-P